DEPARTMENT OF ENERGY

10 CFR Part 430

[EERE-2020-BT-TP-0012]

RIN 1904-AE49

Energy Conservation Program: Test Procedure for Battery Chargers; Correction

AGENCY: Office of Energy Efficiency and Renewable Energy, Department of Energy.

ACTION: Final rule; correction.

SUMMARY: The U.S. Department of Energy (“DOE”) is correcting a final rule that appeared in the Federal Register on September 8, 2022. The document amended test procedures for battery chargers. This document corrects amendatory errors in that final rule.

DATES: Effective October 11, 2022.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Mr. Nolan Brickwood, U.S. Department of Energy, Office of the General Counsel, GC-33, 1000 Independence Avenue SW, Washington, DC 20585-0121. Telephone: (202) 586-5709. Email: nolan.brickwood@hq.doe.gov.

SUPPLEMENTARY INFORMATION:

I. Background

DOE published a final rule in the Federal Register on September 8, 2022 (September 2022 Final Rule), amending the test procedure for battery chargers. 87 FR 55090. This correction addresses numbering errors in the amendatory language in that final rule.

First, DOE noted in the amendatory instructions that it was replacing the text “appendix Y” with the text “appendices Y and Y1” in paragraph (p)(3) of 10 CFR 430.3 and replacing the text “Y, Z” with the text “Y, Y1, Z” in paragraph (p)(6) of 10 CFR 430.3. However, these paragraphs have recently been redesignated to paragraphs (p)(4) and (p)(7), respectively. Second, the instruction amending the introductory text of appendix Y to subpart B instructs to revise a note that does not currently exist. Instead, the instruction should have said to “add a note before the introductory text and revise the introductory paragraph”. Finally, the instruction to revise the definition of C-Rate in appendix Y erroneously refers to amending section 2.1.0 when the instruction should have stated to amend section 2.10. of appendix Y to subpart B of part 430.

II. Need for Correction

As published, the regulatory text in September 2022 Final Rule may result in confusion due to incorrect section references. Because this final rule would simply correct errors in the text without making substantive changes in the September 2022 Final Rule, the changes addressed in this document are technical in nature.

III. Procedural Issues and Regulatory Review

DOE has concluded that the determinations made pursuant to the various procedural requirements applicable to the September 2022 Final Rule remain unchanged for this final rule technical correction. These determinations are set forth in the September 2022 Final Rule. 87 FR 55090, 55117-55122.

Pursuant to the Administrative Procedure Act, 5 U.S.C. 553(b), DOE finds that there is good cause to not issue a separate notice to solicit public comment on the changes contained in this document. Issuing a separate notice to solicit public comment would be impracticable, unnecessary, and contrary to the public interest. Neither the errors nor the corrections in this document affect the substance of the September 2022 Final Rule or any of the conclusions reached in support of the final rule. Providing prior notice and an opportunity for public comment on correcting objective, typographical errors that do not change the substance of the test procedure serves no useful purpose.

Further, this rule correcting typographical errors makes non-substantive changes to the test procedure. As such, this rule is not subject to the 30-day delay in effective date requirement of 5 U.S.C. 553(d) otherwise applicable to rules that make substantive changes.

In final rule FR Doc. 2022-18717, published in the issue of Thursday, September 8, 2022, (87 FR 55090), the following corrections are made:

§ 430.3 [Corrected]

1. On page 55122, second column, amendatory instructions 4.b. and 4.c. are corrected to read as follows:

b. In paragraph (p)(4) introductory text, removing the text “appendix Y”, and adding in its place the text “appendices Y and Y1”; and

c. In paragraph (p)(7), removing the text “Y, Z,”, and adding in its place the text “Y, Y1, Z”.

2. On page 55122, third column, amendatory instructions 6.a. and 6.b. are corrected to read as follows:

a. Adding a note before the introductory text and revising the introductory paragraph;

b. Revising sections 2.10., 3.1.4.(b), 3.2.5.(f), 3.3.4, 3.3.6.(c)(5), and 3.3.8.

Signing Authority

This document of the Department of Energy was signed on September 28, 2022, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 30, 2022.
Treena V. Garrett,
Federal Register Liaison Officer, U.S. Department of Energy.

[FR Doc. 2022-21695 Filed 10-6-22; 8:45 am]

BILLING CODE 6450-01-P